DEPARTMENT OF TRANSPORTATION

Pipeline and Hazardous Materials Safety Administration

Office of Hazardous Materials Safety; Notice of Applications for Modification of Special Permit

AGENCY: Pipeline and Hazardous Materials Safety Administration, DOT.

ACTION: List of applications for modification of special permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g., to provide for additional hazardous materials, packaging design changes, additional mode of transportation, etc.) are described in footnotes to the application number. Application numbers with the suffix “M” demote a modification request. There applications have been separated from the new application for special permits to facilitate processing.

DATES: Comments must be received on or before May 30, 2006.

Address Comments to: Record Center, Pipeline and Hazardous Materials Safety Administration, U.S. Department of Transportation, Washington, DC 20590.

Comments should refer to the application number and submitted in triplicate. If Confirmation of receipt of comments is desired, include a self-addressed stamped postcard showing the special permit number.

FOR FURTHER INFORMATION CONTACT: Copies of the applications are available for inspection in the Records Center, Nassif Building, 400 7th Street SW., Washington DC or at http://dms.dot.gov.

This notice of receipt of applications for modification of special permit is published in accordance with Part 107 of the Federal hazardous materials transportation law (49 U.S.C. 5117(b); 49 CFR 1.53(b)).

Issued in Washington, DC, on May 08, 2006.
R. Ryan Posten,
Chief, Special Permits Program, Office of Hazardous Materials, Special Permits & Approvals.

Modification Special Permits
Application no. | Docket no. | Applicant | Regulation(s) affected | Modification of special permit | Nature of special permit thereof
11947-M | 2901 | Patts Fabrication, Inc. | 49 CFR 173.202; 173.203; 173.241; 173.242 | 11947 | To modify the special permit to authorize the transportation of additional Class 3 and 8 material in non-DOT specification containers.
11966-M | 2990 | FMC Corporation | 49 CFR 173.31(b)(6)(i) | 11966 | To modify the special permit to authorize extending the service life of a select group of tank cars fitted with half head shields.
12405-M | 6766 | Air Products and Chemicals, Inc | 49 CFR 173.304(a)(2); 173.304(b) | 12405 | To modify the special permit to authorize higher fill densities for Hydrogen Chloride in DOT specification cylinders with service pressure ratings of 2400 and 2265 psig.
13601-M | 18713 | DS Containers | 49 CFR 173.306(b)(1); 175.3 | 13601 | To modify the special permit to authorize the use of an alternative non-DOT specification inner non-refillable container and revised procedures for testing an approved lot.

[FR Doc. 06-4479 Filed 5-11-06; 8:45 am]

BILLING CODE 4909-60-M